DEPARTMENT OF COMMERCE

Bureau of Economic Analysis

Solicitation of Nominations To Serve on the BEA Advisory Committee

AGENCY: Bureau of Economic Analysis, Department of Commerce.

ACTION: Solicitation of nominations.

SUMMARY: The Director of the Bureau of Economic Analysis (BEA) requests nominations of individuals to the Bureau of Economic Analysis Advisory Committee (BEAAC) to fill upcoming vacancies. The Director will consider nominations received in response to this notice, as well as from other sources.

DATES: Please submit nominations by September 30, 2022. The Bureau of Economic Analysis will retain nominations received after this date for consideration should additional vacancies occur.

ADDRESSES: Please submit nominations by email to Gianna.Marrone@bea.gov (subject line “BEAAC Nominations”).

FOR FURTHER INFORMATION CONTACT: Gianna Marrone, Committee Management Official, Department of Commerce, Bureau of Economic Analysis, telephone: 301-278-9282, email: Gianna.Marrone@bea.gov.

SUPPLEMENTARY INFORMATION:

Background

The BEAAC was established September 2, 1999, and advises the Director of BEA on matters related to the development and improvement of BEA's national, regional, industry, and international economic accounts, with a focus on new and rapidly growing areas of the U.S. economy. The BEAAC functions solely as an advisory committee to the Director of BEA, in accordance with the Federal Advisory Committee Act (FACA), and advises BEA on topics selected by BEA in consultation with the Committee chairperson. The BEAAC provides recommendations from the perspectives of the economics profession, business, and government as well as recommendations for current and proposed BEA projects. This is the most effective means of obtaining valuable feedback on new data products and improvements to BEA's existing statistics.

Description of BEAAC Membership and Duties

The BEACC will consist of approximately 15 members who are appointed by and serve at the discretion of the Director of BEA. The Committee chairperson will be selected by the Director of BEA. Members will be selected on a clear, standardized basis, in accordance with applicable Department of Commerce guidance. Committee members will be from business, academia, research, government, and international organizations, and they must be acknowledged experts in relevant fields, such as economics, statistics, and economic accounting. Committee members will be considered “special government employees” (SGEs) and, therefore, will be subject to the ethical standards applicable to SGEs.

Committee members will serve for a term up to three years. All members will be reevaluated at the conclusion of the term with the prospect of renewal for an additional term. Active attendance and participation in meetings and activities (e.g., conference calls and assignments) will be factors considered when determining term renewal or membership continuance. Members may be appointed for no more than three consecutive terms. Appointments may be for one, two, or three years to provide staggered terms.

The BEACC meets once or twice a year, budget permitting. Additional meetings may be held as deemed necessary by the Director or the Designated Federal Official. All meetings are open to the public in accordance with FACA the Freedom of Information Act, 5 U.S.C. 552.

Members shall not reference or otherwise utilize their membership on this committee in connection with public statements made in their personal capacities without a disclaimer that the views expressed are their own and do not represent the views of the BEACC, BEA, or the Department of Commerce. Committee members shall serve without compensation, but may, upon request, be reimbursed travel expenses, including per diem, as authorized by 5 U.S.C. 5701 et seq. Because Committee members will not have access to classified information, no security clearances are required.

Solicitation of Nominations

The Committee is currently filling one or more positions on the BEAAC. The Director will consider nominations of all qualified individuals to ensure that the Committee includes the areas of experience noted above. Individuals may nominate themselves or other individuals, and professional associations and organizations may nominate one or more qualified persons for membership on the Committee. Nominations shall state that the nominee is willing to serve as a member and carry out the duties of the Committee. A nomination package should include the following information for each nominee:

1. A letter of nomination stating the name, affiliation, and contact information for the nominee, the basis for the nomination (i.e., what specific attributes recommend him/her for service in this capacity), and the nominee's field(s) of experience;

2. A biographical sketch of the nominee and a copy of his/her curriculum vitae; and

3. The name, return address, email address, and daytime telephone number at which the nominator can be contacted.

The Committee aims to have a balanced representation among its members, considering such factors as geography, age, sex, race, ethnicity, technical expertise, community involvement, and knowledge of programs and/or activities related to BEAAC. Individuals will be selected based on their expertise in or representation of specific areas as needed by BEAAC.

Authority: Federal Advisory Committee Act (FACA), as amended, 5 U.S.C., app.

Dated: August 26, 2022.
Ryan Noonan,
Designated Federal Official, Bureau of Economic Analysis Advisory Committee, Bureau of Economic Analysis.

[FR Doc. 2022-18789 Filed 8-30-22; 8:45 am]

BILLING CODE 3510-06-P